CENTRAL INTELLIGENCE AGENCY

32 CFR Part 1900

FOIA Processing Fees

AGENCY: Central Intelligence Agency.

ACTION: Final rule.

SUMMARY: On January 8, 2007, the Central Intelligence Agency submitted a proposed rule for public comment on Freedom of Information Act processing fees to the Federal Register. The CIA has reviewed and carefully considered all of the comments that were submitted in response to our proposal. As a result of that review, the CIA hereby issues its final rule on FOIA processing fees.

EFFECTIVE DATE: July 18, 2007.

FOR FURTHER INFORMATION CONTACT: Scott A. Koch, Information and Privacy Coordinator, Central Intelligence Agency, Washington, DC 20505 or by telephone, 703-613-1287.

SUPPLEMENTARY INFORMATION: In the January 8, 2007 edition of the Federal Register, the CIA published a proposed rule which reflected a zero-based review of its public FOIA regulations on processing fees. The proposed rule was an expansive attempt to streamline our administrative approach in order to improve our processing of FOIA requests. The proposed system contained a number of innovative features to make this new approach workable. The CIA received comments that supported some aspect of the proposed rule, while also receiving comments which were very critical of other aspects of this approach. After a review and consideration of all of the comments, it was clear that there was no way to reconcile the positive and negative comments into a refinement of our approach that was workable. We concluded that if any features of the proposed system were dropped, the advantages would not outweigh the disadvantages of adopting this system.

Since there was no support to proceed with the proposed rule as originally drafted, rather than implementing the sweeping changes set forth in the proposed rule, we have a more modest change by simply adopting the definition of “news media” contained in the March 27, 1987, Office of Management and Budget FOIA Guidelines. Although, the CIA remains confident in the adequacy and sufficiency of its previous interpretation of “news media” fee status, it has concluded that it is preferable to avoid sterile and unproductive technical litigation and the associated diversion of resources from more productive pursuits that that entails.

List of Subjects in 32 CFR Part 1900

Classified information, Freedom of Information.

As stated in the preamble, the CIA is amending 32 CFR part 1900 as follows:

PART 1900—PUBLIC ACCESS TO CIA RECORDS UNDER THE FREEDOM OF INFORMATION ACT (FOIA)

1. The authority citation for part 1900 continues to read as follows:

Authority: The Freedom of Information Act (FOIA), as amended (5 U.S.C. 552); the CIA Information Act of 1984 (50 U.S.C. 431); sec. 102 of the National Security Act of 1947, as amended (50 U.S.C. 403); and sec. 6 of the Central Intelligence Agency Act of 1949, as amended (50 U.S.C. 403(g)).

2. In § 1900.02, revise paragraph (h)(3) to read as follows:

§ 1900.02 Definitions.

* * * * *

(h) * * *

(3) Representative of the News Media refers to any person actively gathering news for an entity that is organized and operated to publish or broadcast news to the public. The term “news” means information that is about current events or that would be of current interest to the public. Examples of news media entities include television or radio stations broadcasting to the public at large, and publishers of periodicals (but only in those instances when they can qualify as disseminators of “news”) who make their products available for purchase or subscription by the general public. These examples are not intended to be all-inclusive. Moreover, as traditional methods of news delivery evolve (e.g., electronic dissemination of newspapers through telecommunications services), such alternative media would be included in this category. In the case of “freelance” journalists, they may be regarded as working for a news organization if they can demonstrate a solid basis for expecting publication through that organization, even though not actually employed by it. A publication contract would be the clearest proof, but agencies may also look to the past publication record of a requestor in making this determination:

* * * * *

Dated: July 9, 2007.
Edmund Cohen,
Chief of Information Management Services.

[FR Doc. E7-13931 Filed 7-17-07; 8:45 am]

BILLING CODE 6310-02-P